INTERNATIONAL TRADE COMMISSION

[Investigation No. 337-TA-588]

In the Matter of Certain Digital Multimeters, and Products With Multimeter Functionality; Issuance of General Exclusion Order and Cease and Desist Orders; Termination of the Investigation

AGENCY: U.S. International Trade Commission.

ACTION: Notice.

SUMMARY: Notice is hereby given that the U.S. International Trade Commission has issued a general exclusion order and cease and desist orders directed to two defaulting domestic respondents in the above-identified investigation. The investigation is terminated.

FOR FURTHER INFORMATION CONTACT: Michael K. Haldenstein, Office of the General Counsel, U.S. International Trade Commission, 500 E Street, SW., Washington, DC 20436, telephone (202) 205-3041. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 13, 2006, based on a complaint filed on October 6, 2006, and supplemented on October 27 and 30, 2006, by Fluke Corp. of Everett, Washington, alleging violations of section 337 of the Tariff Act of 1930 in the importation into the United States, the sale for importation, and the sale within the United States after importation of certain digital multimeters and products with multimeter functionality by reason of infringement of United States Trademark Registration No. 2,796,480 (“the ‘480 mark”) and also by reason of infringement of trade dress, the threat or effect of which is to destroy or substantially injure an industry in the United States. 71 FR 661940 (November 13, 2006). Complainant requested that the Commission issue a general exclusion order and cease and desist orders. The complaint named eighteen respondents in China, Hong Kong, and the United States. Fourteen respondents were terminated from the investigation by settlement agreement, consent order, or both. The four remaining respondents were found in default.

On July 3, 2007, complainant filed a motion seeking summary determination of violation of section 337. On January 14, 2008, the presiding administrative law judge (“ALJ”) issued an initial determination (“ID”) granting complainant's motion for summary determination of violation of section 337 as to the four defaulting respondents. He recommended issuance of a general exclusion order, issuance of cease and desist orders against respondents Electronix Express and HandsOnTools, and that the amount of bond for temporary importation during the Presidential review period be set at 100 percent of the entered value of the articles concerned. No petitions for review were filed.

On February 12, 2008, the Commission determined not to review the ID and requested written submissions on the issues of remedy, the public interest, and bonding. On February 28 and March 6, 2008, respectively, the complainant Fluke and the Investigative Attorney (“IA”) filed briefs and the IA filed a reply brief on these issues.

Having reviewed the record in this investigation, including the ALJ's recommended determination and the parties' written submissions, the Commission has determined that the appropriate form of relief is a general exclusion order prohibiting the unlicensed entry of digital multimeters that infringe the ‘480 mark or Fluke's protected trade dress and cease and desist orders directed to Electronix Express and HandsOnTools.

The Commission has further determined that the public interest factors enumerated in section 337(d)(1) (19 U.S.C. 1337(d)(1)) do not preclude issuance of the general exclusion order. Finally, the Commission determined that the amount of bond to permit temporary importation during the Presidential review period (19 U.S.C. *1337(j)) shall be in the amount of 100 percent of the value of the digital multimeters that are subject to the order. The Commission's order and opinion were delivered to the President and to the United States Trade Representative on the day of their issuance.

The authority for the Commission's determination is contained in section 337 of the Tariff Act of 1930, as amended, 19 U.S.C. 1337, and in sections 210.42-46 of the Commission's Rules of Practice and Procedure, 19 CFR 210.42-46.

Issued: May 14, 2008.
By order of the Commission.
Marilyn R. Abbott,
Secretary to the Commission.

[FR Doc. E8-11196 Filed 5-19-08; 8:45 am]

BILLING CODE 7020-02-P